DEPARTMENT OF HEALTH AND HUMAN SERVICES

Food and Drug Administration

[Docket No. FDA-2014-N-0987]

Agency Information Collection Activities; Proposed Collection; Comment Request; Generic Clearance for the Collection of Qualitative Data on Tobacco Products and Communications; Correction

AGENCY: Food and Drug Administration, HHS.

ACTION: Notice; correction.

SUMMARY: The Food and Drug Administration (FDA) is correcting a document entitled “Agency Information Collection Activities; Proposed Collection; Comment Request; Generic Clearance for the Collection of Qualitative Data on Tobacco Products and Communications” that appeared in the Federal Register of August 1, 2014. The document announced the generic clearance for the collection of qualitative data on tobacco products and communications. The document was published with the incorrect docket number. This document corrects that error.

FOR FURTHER INFORMATION CONTACT: FDA PRA Staff, Office of Operations, Food and Drug Administration, 8455 Colesville Rd., COLE-14526, Silver Spring, MD 20993-0002, PRAStaff@fda.hhs.gov.

SUPPLEMENTARY INFORMATION: In FR Doc. 2014-18195, appearing on page 44779 in the Federal Register of August 1, 2014 (79 FR 44779), FDA is making the following correction:

1. On page 44779, in the second column, in the Docket No. heading, “FDA-2014-N-0005” is corrected to read “FDA-2014-N-0987.”

Dated: December 3, 2014.
Leslie Kux,
Associate Commissioner for Policy.

[FR Doc. 2014-28714 Filed 12-8-14; 8:45 am]

BILLING CODE 4164-01-P